DEPARTMENT OF TRANSPORTATION

Federal Aviation Administration

14 CFR Part 39

[Docket No. FAA-2017-0690; Directorate Identifier 2017-NM-061-AD]

RIN 2120-AA64

Airworthiness Directives; Airbus Airplanes

AGENCY: Federal Aviation Administration (FAA), DOT.

ACTION: Proposed rule; removal.

SUMMARY: We propose to remove Airworthiness Directive (AD) 2017-01-06, which applies to certain Airbus Model A319-115, A319-132, A320-214, A320-232, A321-211, A321-213, and A321-231 airplanes. AD 2017-01-06 requires inspection and replacement of certain tie rod assemblies installed on the hinged fairing assembly of the main landing gear (MLG). We issued AD 2017-01-06 to detect and correct the absence of cadmium plating on the rod end threads of the tie rod assemblies. Since we issued AD 2017-01-06, we have determined that although cadmium plating might be absent, the rod end threads of the tie rod assemblies can withstand the expected environmental conditions, therefore the unsafe condition, as initially determined, does not exist.

DATES: We must receive comments on this proposed AD by August 31, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to the Mail address above between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2017-0690; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposal. Send your comments to an address listed under the ADDRESSES section. Include “Docket No. FAA-2017-0690; Directorate Identifier 2017-NM-061-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On December 23, 2016, we issued AD 2017-01-06, Amendment 39-18773 (82 FR 4773, January 17, 2017) (“AD 2017-01-06”), for certain Airbus Model A319-115, A319-132, A320-214, A320-232, A321-211, A321-213, and A321-231 airplanes. AD 2017-01-06 requires a detailed inspection for the presence of cadmium plating on tie rod assemblies having certain part numbers, and procedures for replacement of tie rod assemblies with no cadmium plating on the rod end threads. AD 2017-01-06 resulted from a report of certain tie rod assemblies installed on the hinged fairing assembly of the MLG with no cadmium plating on the rod end threads. We issued AD 2017-01-06 to detect and correct the absence of cadmium plating on the rod end threads of the tie rod assemblies. The absence of cadmium plating could lead to galvanic corrosion of the tie rod end threads, resulting in rod end failure, loss of a MLG door, and consequent damage to the airplane.

Actions Since AD 2017-01-06 Was Issued

Since we issued AD 2017-01-06 we have determined that, although cadmium plating might be absent, the rod end threads of the tie rod assemblies can withstand the expected environmental conditions, therefore the unsafe condition, as initially determined, does not exist.

In addition, the European Aviation Safety Agency (EASA) which is the Technical Agent for the Member States of the European Union, has issued EASA Airworthiness Directive 2015-0234-CN, dated April 28, 2017 (referred to after this as the Mandatory Continuing Airworthiness Information, or “the MCAI”), to correct an unsafe condition for certain Airbus Model A319-115, A319-132, A320-214, A320-232, A321-211, A321-213, and A321-231 airplanes. The MCAI states:

A production quality issue was identified concerning tie rod assemblies, having [a] Part Number starting with D52840212000 or D52840212002, which are installed on the main landing gear (MLG) hinged fairing assembly. This quality issue affects the cadmium plating surface treatment which was inadvertently omitted from the rod end threads of the assembly. The absence of cadmium plating reduces the corrosion protection scheme.

This condition, if not detected and corrected, was initially assessed as leading to galvanic corrosion of the tie rod end threads, possibly resulting in rod end failure, loss of a MLG door, and consequent injury to persons on ground.

To address this unsafe condition, Airbus identified the affected MSN [manufacturer serial number] and issued SB A320-52-1167 to provide inspection instructions.

Consequently, EASA issued AD 2015-0234 [which corresponds to FAA AD 2017-01-06], requiring a one-time inspection of the affected MLG hinged fairing tie rod assemblies, and, depending on findings, replacement of the affected tie rod assembly.

Since that [EASA] AD was issued, tests performed by the tie rod assembly manufacturers determined that the assemblies, even without cadmium plating surface treatment on the rod end threads, can withstand the expected environmental conditions. The consequence is that the unsafe condition, as initially determined, does not exist.

For the reasons described above, this Notice cancels EASA AD 2015-0234.

You may examine the MCAI in the AD docket on the Internet at http://www.regulations.gov by searching for and locating Docket No. FAA-2017-0690.

FAA's Conclusions

Upon further consideration, we have determined that AD 2017-01-06, must be removed. Accordingly, this proposed AD would remove AD 2017-01-06. Removal of AD 2017-01-06 would not preclude the FAA from issuing another related action or commit the FAA to any course of action in the future.

Related Costs of Compliance

AD 2017-01-06 affects about 20 airplanes of U.S. registry. The estimated cost of the actions required by AD 2017-01-06 for U.S. operators is $3,400, or $170, per product. Removing AD 2017-01-06 would eliminate those costs.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866;

(2) Is not a “significant rule” under the DOT Regulatory Policies and Procedures (44 FR 11034, February 26, 1979);

(3) Will not affect intrastate aviation in Alaska; and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2017-01-06, Amendment 39-18773 (82 FR 4773, January 17, 2017), and adding the following new AD:

Airbus: Docket No. FAA-2017-0690; Directorate Identifier 2017-NM-061-AD.

(a) Comments Due Date

We must receive comments by August 31, 2017.

(b) Affected ADs

This action removes AD 2017-01-06, Amendment 39-18773 (82 FR 4773, January 17, 2017).

(c) Applicability

This action applies to Airbus Model A319-115, A319-132, A320-214, A320-232, A321-211, A321-213, and A321-231 airplanes, certificated in any category, as identified in Airbus Service Bulletin A320-52-1167, dated August 6, 2015.

Issued in Renton, Washington, on June 29, 2017.
Michael Kaszycki,
Acting Manager, Transport Airplane Directorate, Aircraft Certification Service.

[FR Doc. 2017-14704 Filed 7-14-17; 8:45 am]

BILLING CODE 4910-13-P